DEPARTMENT OF LABOR

Employment and Training Administration

[TA-W-59,074]

Western Graphics Corporation Including On-Site Leased Workers of Personnel Source and Quality Cleaning Service; Eugene, OR; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 30, 2006, applicable to workers of Western Graphics Corporation, including on-site leased workers of Personnel Source, Eugene, Oregon. The notice was published in the Federal Register on April 17, 2006 (71 FR 19755).

At the request of the petitioner, the Department reviewed the certification for workers of the subject firm. The workers are engaged in the production of colored posters.

New information shows that a leased worker of Quality Cleaning Service was employed on-site at the Eugene, Oregon location of Western Graphics Corporation.

Based on these findings, the Department is amending this certification to include a leased worker of Quality Cleaning Service working on-site at Western Graphics Corporation, Eugene, Oregon.

The intent of the Department's certification is to include all workers employed at Western Graphics Corporation, Eugene, Oregon who was adversely affected by increased imports.

The amended notice applicable to TA-W-59,074 is hereby issued as follows:

All workers of Western Graphics Corporation, including on-site leased workers of Personnel Source and Quality Cleaning Service, Eugene, Oregon, who became totally or partially separated from employment on or after March 21, 2005, through March 30, 2008, are eligible to apply for adjustment assistance under Section 223 of the Trade Act of 1974, and are also eligible to apply for alternative trade adjustment assistance under Section 246 of the Trade Act of 1974.

Signed at Washington, DC, this 7th day of June 2006.
Richard Church,
Certifying Officer, Division of Trade Adjustment Assistance.

[FR Doc. E6-9996 Filed 6-23-06; 8:45 am]

BILLING CODE 4510-30-P